ENVIRONMENTAL PROTECTION AGENCY

40 CFR Parts 141 and 142

[Docket No. EPA-HQ-OW-2009-0090; FRL-9660-4]

RIN 2040-AF10

Revisions to the Unregulated Contaminant Monitoring Regulation (UCMR 3) for Public Water Systems

Correction

In rule document 2012-9978 appearing on pages 26072-26101 in the issue of Wednesday, May 2, 2012, make the following correction:

On pages 26072-26073, the table entitled “EXHIBIT 1—APPLICABILITY OF UCMR 3 TO WATER UTILITIES BY SYSTEM TYPE AND SIZE” should read as set forth below:

Exhibit 1—Applicability of UCMR 3 to Water Utilities by System Type and Size
System Type | System size ¹: Serving > 10,000 | System size ¹: Serving ≤ 10,000
UCMR 3 Assessment Monitoring
CWS & NTNCWS | Requires all systems to monitor for List 1 chemicals | Requires 800 randomly selected systems to monitor for List 1 chemicals. EPA will pay for the analysis of samples.
TNCWS | No requirements | No Requirements.
UCMR 3 Screening Survey
CWS & NTNCWS | Requires all systems serving more than 100,000, and 320 randomly selected systems serving 10,001 to 100,000 to monitor for List 2 chemicals | Requires 480 randomly selected systems to monitor for List 2 chemicals. EPA will pay for the analysis of samples.
TNCWS | No requirements | No Requirements.
UCMR 3 Pre-Screen Testing
CWS, TNCWS & NTNCWS | No requirements | Requires 800 randomly selected systems to permit EPA to sample and analyze List 3 microbes. The selected systems will be served by non-disinfecting ground water wells in vulnerable areas. EPA will pay for the analysis of samples.
¹ Based on the retail population, as indicated by SDWIS/Fed on December 31, 2010.

[FR Doc. C1-2012-9978 Filed 6-29-12; 8:45 am]

BILLING CODE 1505-01-D